DEPARTMENT OF COMMERCE

National Oceanic and Atmospheric Administration

[I.D. 012505B]

Endangered Species; Permit No. 1226 and Permit No. 1239

AGENCY: National Marine Fisheries Service (NMFS), National Oceanic and Atmospheric Administration (NOAA), Commerce.

ACTION: Scientific research permit modifications.

SUMMARY: Notice is hereby given that requests for modifications to scientific research permits No. 1226 submitted by the New York State Department of Environmental Conservation, Hudson River Fisheries Unit, Bureau of Marine Resources, 21 South Putt Corners Road, New Paltz, New York, 12561-1696 (Kathryn A. Hattala, Principal Investigator) and No. 1239 submitted by Dr. Boyd Kynard, U.S. Geological Survey, Conte Anadromous Fish Research Center, P.O. Box 796, One Migratory Way, Turners Falls, Massachusetts 01376, have been granted.

ADDRESSES: The modifications and related documents are available for review upon written request or by appointment in the following office(s):

Permits, Conservation and Education Division, Office of Protected Resources, NMFS, 1315 East-West Highway, Room 13705, Silver Spring, MD 20910, phone (301) 713-2289, fax (301) 427-2521; and,

Northeast Region, NMFS, One Blackburn Drive, Gloucester, MA 01930-2298, phone (978) 281-9328, fax (978) 281-9394.

FOR FURTHER INFORMATION CONTACT: Jennifer Jefferies (301)713-2289.

SUPPLEMENTARY INFORMATION: The requested modifications have been granted under the authority of the Endangered Species Act of 1973, as amended (ESA; 16 U.S.C. 1531 et seq.) and the provisions of § 222.306 of the regulations governing the taking, importing, and exporting of endangered and threatened fish and wildlife (50 CFR parts 222-226).

The New York State Department of Environmental Conservation is authorized to sample for and collect 300 shortnose sturgeon (Acipenser brevirostrum) annually in the Hudson River. The objectives of the study are to collect data on current distribution, abundance, length structure and movements of shortnose sturgeon in this river system. This modification will extend the permit through October 31, 2006.

Dr. Kynard is authorized to sample for and collect 300 shortnose sturgeon in the Connecticut River. The objectives of the study are to collect data on current distribution, abundance, length structure and movements of shortnose sturgeon in this river system. This modification will extend the permit through June 1, 2006.

Issuance of these modifications, as required by the ESA was based on a finding that such permits: (1) Were applied for in good faith; (2) will not operate to the disadvantage of the endangered species which is the subject of these permits; and (3) are consistent with the purposes and policies set forth in section 2 of the ESA.

Dated: January 22, 2005.
Stephen L. Leathery,
Chief, Permits, Conservation and Education Division, Office of Protected Resources, National Marine Fisheries Service.

[FR Doc. 05-2002 Filed 2-2-05; 8:45 am]

BILLING CODE 3510-22-S